DEPARTMENT OF TRANSPORTATION

National Highway Traffic Safety Administration

[Docket No. NHTSA-2021-0016]

Agency Information Collection Activities; Notice and Request for Comment; Countermeasures That Work

AGENCY: National Highway Traffic Safety Administration (NHTSA), Department of Transportation (DOT).

ACTION: Notice and request for public comment on a reinstatement with modification of a previously approved collection of information.

SUMMARY: The National Highway Traffic Safety Administration (NHTSA) invites public comments about our intention to request approval from the Office of Management and Budget (OMB) for a reinstatement with modification of a previously approved collection of information. Before a Federal agency can collect certain information from the public, it must receive approval from OMB. Under procedures established by the Paperwork Reduction Act of 1995, before seeking OMB approval, Federal agencies must solicit public comment on proposed collections of information, including extensions and reinstatements of previously approved collections. This document describes an Information Collection Request (ICR) for which NHTSA intends to seek OMB approval to conduct a survey that will inform the development of the 12th edition of Countermeasures That Work and structured interviews to populate and update the 2nd edition of Countermeasures At Work.

DATES: Comments must be received on or before June 17, 2022.

ADDRESSES: You may submit comments identified by DOT Docket ID Number NHTSA-2021-0016 using any of the following methods:

• Electronic submissions: Go to http://www.regulations.gov. Follow the on-line instructions for submitting comments.

• Mail: Docket Management Facility, M-30, U.S. Department of Transportation, 1200 New Jersey Avenue SE, West Building Ground Floor, Room W12-140, Washington, DC 20590.

• Hand Delivery: West Building Ground Floor, Room W12-140, 1200 New Jersey Avenue SE, Washington, DC, between 9 a.m. and 5 p.m., Monday through Friday, except Federal holidays. To be sure someone is there to help you, please call (202) 366-9322 before coming.

• Fax: 1-202-493-2251.

Instructions: Each submission must include the Agency name and the Docket number for this Notice. Note that all comments received will be posted without change to http://www.regulations.gov including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Kristie Johnson, Ph.D., Office of Behavioral Safety Research (NPD-310), National Highway Traffic Safety Administration, 1200 New Jersey Avenue SE, W46-498, Washington, DC 20590. Dr. Johnson's phone number is 202-366-2755, and her email address is kristie.johnson@dot.gov.

SUPPLEMENTARY INFORMATION: Under the Paperwork Reduction Act of 1995 (PRA) (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses. In compliance with these requirements, NHTSA asks for public comment on the following proposed collection of information:

Title: Countermeasures That Work.

OMB Control Number: 2127-0727.

Form Numbers: NHTSA Form 1343, NHTSA Form 1344.

Type of Information Collection Request: Reinstatement with modification of a previously approved information collection.

Type of Review Requested: Regular.

Requested Expiration Date of Approval: 3 years from date of approval.

Summary of the Collection of Information

NHTSA is seeking approval to (1) collect user feedback on the Countermeasures That Work ¹ and Countermeasures At Work (1st edition to be published later in early 2022) guides, and (2) collect program information from program administrators to develop countermeasure case studies for Countermeasures At Work.

¹ Venkatraman, V., Richard, C.M., Magee, K., & Johnson, K. (2021, July). Countermeasures that work: A highway safety countermeasure guide for State Highway Safety Offices, 10th edition (Report No. DOT HS 813 097). National Highway Traffic Safety Administration. www.nhtsa.gov/sites/nhtsa.gov/files/2021-09/15100_Countermeasures10th_080621_v5_tag.pdf.

End-User Feedback Survey

NHTSA proposes to conduct a web-based feedback survey of up to 120 users of Countermeasures That Work and/or Countermeasures At Work representing State Highway Safety Offices (SHSOs) and/or local jurisdictions, the Governors Highway Safety Association (GHSA), State Coordinators from across the United States, and other important stakeholders with the intent to reach regular users of the documents to help improve the documents. Survey topics will include how the guides are used, weaknesses/drawbacks to the current guides, perceived usefulness of the ratings, and other suggestions for improvement.

While previous feedback surveys were conducted via phone, the proposed survey would be administered using an online platform to reduce participant burden, improve data capture, and reduce coding needs. Participation by respondents would be voluntary. There are no record-keeping costs to the respondents. Responses will not be publicly reported, but NHTSA will internally use the aggregated information to revise and improve the Countermeasures That Work and Countermeasures At Work guides. Specifically, feedback will be used to determine which aspects of the guides should be improved and if there are features or topics that the guides do not currently have that they would like to have included.

Structured Interviews

NHTSA also proposes to conduct up to 60 structured in-person or phone interviews with representatives from jurisdictions that currently administer effective countermeasures. The respondents for the interviews will be selected based on their job position, knowledge of domain, management of effective countermeasure implementations as noted in the literature, and recommendation from NHTSA or GHSA subject matter experts with the intent to reach program administrators of effective countermeasures with the goal of populating and enriching countermeasure descriptions. The findings of interviews conducted for Countermeasures At Work will be reported separately for each individual locality so that the reader can get an idea about the size and type of the featured locality and issues specific to that locality. The Countermeasures At Work guide will include general contact information about the locality (i.e., State DOT or SHSO office) or the contact information of key individuals (if permission is granted by the interview participant), so that readers of the document can follow-up, if desired, with the locality to obtain more information about the countermeasure.

The Countermeasures That Work and Countermeasures At Work reports will be shared with SHSOs, local governments, and those who develop traffic safety programs that aim to change behaviors with the goal of reducing crashes and the resulting injuries and fatalities.

Description of the Need for the Information and Proposed Use of the Information

NHTSA was established by the Highway Safety Act of 1970 and its mission is to reduce deaths, injuries, and economic losses resulting from motor vehicle crashes on the Nation's highways. To further this mission, NHTSA is authorized to conduct research for the development of traffic safety programs. Title 23, United States Code, Section 403 authorizes the Secretary of Transportation (NHTSA by delegation) to use funds appropriated to conduct research and development activities, including demonstration projects and the collection and analysis of highway and motor vehicle safety data and related information, with respect to (a) all aspects of highway and traffic safety systems and conditions relating to vehicle, highway, driver, passenger, motorcyclist, bicyclist, and pedestrian characteristics; accident causation and investigations; and (b) human behavioral factors and their effect on highway and traffic safety.

In 2019, 36,096 people were killed in motor vehicle traffic crashes on U.S. roadways.² While the number of people killed has increased slightly since the U.S. hit its lowest number of fatalities in 2014, over the past 40 years there has been a general downward trend. Effective behavioral safety countermeasures such as those described in Countermeasures That Work and detailed in the upcoming Countermeasures At Work have contributed to these reductions. This project addresses the issue of providing information to traffic safety professionals about countermeasures that have been demonstrated to be effective in addressing certain traffic safety problems.

² National Center for Statistics and Analysis. (2020, December). Overview of motor vehicle crashes in 2019 (Traffic Safety Facts Research Note. Report No. DOT HS 813 060). National Highway Traffic Safety Administration. https://crashstats.nhtsa.dot.gov/Api/Public/ViewPublication/813060.

The public health approach to traffic safety which establishes injuries and fatalities as preventable has resulted in a mix of countermeasures, and the choices among them are driven by research on their effectiveness. Generally, this approach includes some combination of countermeasures aimed at improving safety in terms of improved vehicles, education, improved roads, enhanced road user perception, and behavior and better enforcement of traffic safety laws.

In 2005, the Governors Highway Safety Association and the National Highway Traffic Safety Administration developed a guide, Countermeasures That Work, for the State Highway Safety Offices that provides a basic reference to assist in selecting effective, evidence-based countermeasures to address traffic safety problem areas. Given that SHSO's and other State practitioners responsible for implementing these countermeasures use Countermeasures That Work as an aid to make decisions, it is important to solicit their opinions about the document and its content. Specifically, it is important to know which aspects of the guide should be improved and if there are features or topics that the guide does not currently have that they would like to have included. The Countermeasures At Work guide expands on the most effective countermeasures contained in the Countermeasures That Work guide by providing real world examples and details on localities where specific countermeasures were put into place. The descriptions of the effective countermeasures include details about locality size, implementation issues, cost, stakeholders involved, challenges, evaluation, and outcomes to help officials determine which countermeasures may be effective in their own jurisdictions.

Per Section 1300.11 of the Uniform Procedures for State Highway Safety Grant Programs, each fiscal year, as part of the highway safety planning process for a State's Highway Safety Plan, a list of information and data sources consulted must be included in the plan. Countermeasures That Work is commonly referenced as a consulted source.

The data from this proposed information collection will provide NHTSA with information that will guide updates to the Countermeasures That Work and Countermeasures At Work documents. Data collected from the survey and structured interviews will be used primarily to (1) update the content, format, and structure of information provided in Countermeasures That Work and Countermeasures At Work, and (2) identify the localities/implementation of countermeasures that should be presented as case studies in Countermeasures At Work.

Frequency of Collection: This study is part a biennial update of effective countermeasures. Each of the surveys will be collected one time during the three-year period for which NHTSA is requesting approval. The last survey of stakeholders was in 2020.

Affected Public: Participants will be U.S. adults (18 years old and older) who are members of State Highway Safety Offices (SHSOs) and/or local jurisdictions, the Governors Highway Safety Association (GHSA), State Coordinators from across the United States, or other important stakeholders. Businesses are ineligible for the survey and would not be interviewed.

Estimated Number of Respondents: 180.

Participation in the end user feedback survey will be voluntary with up to 120 participants surveyed from SHSOs and/or local jurisdictions, GHSA, State Coordinators from across the United States, and other important stakeholders. In addition, up to 60 participants will be interviewed about effective countermeasure programs based on their job position, knowledge of domain, management of effective countermeasure implementations as noted in the literature, and recommendation from NHTSA regional specialists or GHSA Office subject matter experts.

Estimated Total Annual Burden Hours: 129.

End User Feedback Survey

NHTSA estimates the total burden of this information collection by estimating the burden to those who NHTSA contacts who do not respond and those who are contacted and participate. The estimated time to contact 120 potential participants for the end user feedback survey is one minute per person to read the invitation email. For recruited participants, it is estimated that the survey will take thirty minutes to complete. For recruited participants, participation is estimated to take thirty-one minutes which includes time to read the email invitation (survey introduction) and complete the survey. While up to three email invites (or waves) are included in this estimate, potential respondents would be comprised of a sample hand-selected by the research team thus potentially reducing the number of subsequent contacts as well as the number of non-responders.

Structured Interviews

NHTSA estimates the total burden of this information collection by estimating the burden to those who NHTSA contacts who do not respond and those who are contacted and participate. The estimated time to contact 60 potential traffic safety representative participants for the structured countermeasure program interviews is two minutes per person to read the invitation email. For recruited participants, participation is estimated to take ninety-two minutes per person. The ninety-two minutes estimate includes time to read the email invitation (interview introduction), schedule an interview time, and complete the interview. Again, while up to four email invites are included in this estimate, potential respondents would be comprised of a sample hand-selected by the research team thus potentially reducing the number of subsequent contacts as well as the number of non-responders.

Total Burden Hours for the End User Feedback Survey and the Structured Interviews

The total estimated burden for contacting 120 traffic safety representatives for the end user feedback survey, if 75% of solicited participants respond, is approximately 50 hours, rounded up (((assuming 90 completed surveys out of 120 contacted potential participants: 45 hours for completed surveys (90 survey participants × 30 minutes to complete the survey) + ~4.5 hours for reading invitations ((Wave 1-120 contacts × 1 minute) + (Wave 2-90 contacts × 1 minute) + (Wave 3-60 contacts × 1 minute))). The total estimated burden for contacting 60 traffic safety representatives for the program case study structured interviews, if 75% of solicited participants respond, is approximately 79 hours, rounded up each wave (((assuming 48 completed interviews out of 60 contacted potential participants: 72 hours (48 completed interviews × 90 minutes for each interview) + ~5.6 hours ((Wave 1-60 contacts × 2 minutes) + (Wave 2-48 contacts × 2 minutes) + (Wave 3-36 contacts × 2 minutes) + (Wave 4-24 contacts × 2 minutes))). Overall, the total estimated burden for the feedback surveys and program case study interviews is 129 hours. This information is presented in the tables below.

Table 1—Estimated Total Burden for End User Feedback Survey
Wave | Number of contacts | Participant type | Estimated time burden per participant (in minutes) | Frequency of burden | Number of participants | Burden hours * | Burden hours per wave * | Average annual total burden
Wave 1 (Initial Email Invitation—NHTSA Form 1343R) | 120 | Contacted potential participant (read email) | 1 | 1 | 120 | 2 | 17
|  | Recruited participant (completed survey) | 30 | 1 | 30 | 15
Wave 2 (Reminder Email #1—NHTSA Form 1343R) | 90 | Contacted potential participant (read email) | 1 | 1 | 90 | 2 | 17
|  | Recruited participant (completed survey) | 30 | 1 | 30 | 15
Wave 3 (Reminder Email #2—NHTSA Form 1343R) | 60 | Contacted potential participant (read email) | 1 | 1 | 60 | 1 | 16
|  | Recruited participant (completed survey) | 30 | 1 | 30 | 15
Total |  |  |  |  |  |  | 50 | 16.67
* Rounded up to the nearest hour.

Table 2—Estimated Total Burden for Structured Interviews
Wave | Number of contacts | Participant type | Estimated time burden per participant (in minutes) | Frequency of burden | Number of participants | Burden hours * | Burden hours per wave * | Average annual total burden
Wave 1 (Initial Email Invitation—NHTSA Form 1344R) | 60 | Contacted potential participant (read email) | 2 | 1 | 60 | 2 | 20
|  | Recruited participant (completed interview) | 90 | 1 | 12 | 18
Wave 2 (Reminder Email #1—NHTSA Form 1344R) | 48 | Contacted potential participant (read email) | 2 | 1 | 48 | 2 | 20
|  | Recruited participant (completed interview) | 90 | 1 | 12 | 18
Wave 3 (Reminder Email #2—NHTSA Form 1344R) | 36 | Contacted potential participant (read email) | 2 | 1 | 36 | 2 | 20
|  | Recruited participant (completed interview) | 90 | 1 | 12 | 18
Wave 4 (Reminder Email #3—NHTSA Form 1344R) | 24 | Contacted potential participant (read email) | 2 | 1 | 24 | 1 | 19
|  | Recruited participant (completed interview) | 90 | 1 | 12 | 18
Total |  |  |  |  |  |  | 79 | 26.33
* Rounded up to the nearest hour.

Table 3—Overall Estimated Total Burden
Information collection component | Frequency | Number of respondents per assessment | Burden hours per collection | Average annual total (hours)
End User Feedback Survey | 1 | 120 | 50 | 16.67
Structured Interviews | 1 | 60 | 79 | 26.33
Total |  | 180 | 129 | 43

Estimated Total Annual Burden Cost: Participation in this study is voluntary, and there are no costs to respondents beyond the time spent completing the end user feedback survey or structured interviews.

Public Comments Invited: You are asked to comment on any aspects of this information collection, including (i) whether the proposed collection of information is necessary for the proper performance of the functions of the Department, including whether the information will have practical utility; (ii) the accuracy of the Department's estimate of the burden of the proposed information collection; (iii) ways to enhance the quality, utility and clarity of the information to be collected; and (iv) ways to minimize the burden of the collection of information on respondents, including the use of automated collection techniques or other forms of information technology.

Authority: The Paperwork Reduction Act of 1995; 44 U.S.C. chapter 35, as amended; 49 CFR 1.49; and DOT Order 1351.29.

Nanda Narayanan Srinivasan,
Associate Administrator, Research and Program Development.

[FR Doc. 2022-08151 Filed 4-15-22; 8:45 am]

BILLING CODE 4910-59-P